FEDERAL COMMUNICATIONS COMMISSION

[WC Docket Nos. 10-90, 07-135, 05-337, 03-109; CC Docket Nos. 01-92, 96-45; GN Docket No. 09-51; WT Docket No. 10-208; DA 20-1279; FR ID 17232]

Wireline Competition Bureau Dismisses Seven Petitions for Reconsideration of Aspects of the USF/ICC Transformation Order

AGENCY: Federal Communications Commission.

ACTION: Notice of dismissal of petitions for reconsideration.

SUMMARY: The Wireline Competition Bureau (Bureau) received no objections to dismissing seven petitions for reconsideration and/or clarification of various aspects of the USF/ICC Transformation Order, and dismisses those petitions with prejudice. One party filed an objection to dismissing the petition for reconsideration by the Public Service Commission of the District of Columbia (DC PSC), and the Bureau declines to dismiss that petition at this time.

DATES: This action is effective as of January 4, 2021.

ADDRESSES: Federal Communications Commission, 45 L Street NE, Washington, DC 20554.

FOR FURTHER INFORMATION CONTACT: Marvin Sacks, Wireline Competition Bureau, Pricing Policy Division via phone at (202) 418-1540 or email at marvin.sacks@fcc.gov.

SUPPLEMENTARY INFORMATION: This is a summary of the Commission's Public Notice, DA 20-1279, released on October 30, 2020. A full-text version of this document can be found at the following internet address: https://docs.fcc.gov/public/attachments/DA-20-1279A1.pdf.

To efficiently resolve issues that are no longer contested, the Bureau announces through this document the dismissal of seven petitions for reconsideration and/or clarification of various aspects of the Universal Service Fund/Intercarrier Compensation (USF/ICC) Transformation Order. 26 FCC Rcd 17663; 76 FR 73830, November 29, 2011.

On January 14, 2020, the Bureau released a Public Notice providing petitioners notice of and an opportunity to object to the Bureau's plan to dismiss with prejudice eight pending petitions for reconsideration and/or clarification of various aspects of the USF/ICC Transformation Order. 35 FCC Rcd 492; 85 FR 12747, March 4, 2020. No entities had filed comments or ex parte submissions regarding any of the eight petitions for several years.

The Bureau received no objections to the dismissal of the seven petitions identified in the chart below, and we therefore dismiss those petitions with prejudice.

Petitioner | Petition | Date petition filed
MetroPCS Communications, Inc | Petition of MetroPCS Communications, Inc. for Clarification and Limited Reconsideration of aspects of the USF/ICC Transformation Order | 12/29/2011
National Exchange Carrier Association, Inc.; Organization for the Promotion and Advancement of Small Telecommunications Companies; and Western Telecommunications Alliance (Rural Associations) | Petition for Reconsideration and Clarification of aspects of the USF/ICC Transformation Order | 12/29/2011
NTCH, Inc | Petition for Reconsideration of aspects of the USF/ICC Transformation Order | 12/29/2011
Onvoy, Inc. and its affiliate, 360networks (USA) Inc | Petition for Clarification or Reconsideration of an aspect of the USF/ICC Transformation Order | 12/23/2011
Sprint Nextel Corporation | Petition for Reconsideration and Clarification of aspects of the USF/ICC Transformation Order | 12/29/2011
United States Telecom Association | Petition for Reconsideration and Clarification of aspects of the USF/ICC Transformation Order | 12/29/2011
Verizon (Verizon Communications Inc. and Verizon Wireless) (Verizon Petition) | Petition for Clarification or, in the Alternative, for Reconsideration of aspects of the USF/ICC Transformation Order | 12/29/2011

In light of an objection that we received from the Pennsylvania Public Utility Commission to the dismissal of a petition for reconsideration of an aspect of the USF/ICC Transformation Order by the DC PSC filed on December 28, 2011, we decline to dismiss that petition at this time.

Federal Communications Commission.
Daniel Kahn,
Associate Bureau Chief, Wireline Competition Bureau.

[FR Doc. 2020-26748 Filed 12-3-20; 8:45 am]

BILLING CODE 6712-01-P